DEPARTMENT OF THE INTERIOR

Fish and Wildlife Service

[FWS-R4-ES-2013-N090; 40120-1112-0000-F2]

Receipt of Applications for Endangered Species Permits

AGENCY: Fish and Wildlife Service, Interior.

ACTION: Notice.

SUMMARY: We, the U.S. Fish and Wildlife Service, invite the public to comment on the following applications to conduct certain activities with endangered species. With some exceptions, the Endangered Species Act (ESA) prohibits activities with listed species unless a Federal permit is issued that allows such activities. The ESA requires that we invite public comment before issuing these permits.

DATES: We must receive written data or comments on the applications at the address given below, by May 28, 2013.

ADDRESSES: Documents and other information submitted with the applications are available for review, subject to the requirements of the Privacy Act and Freedom of Information Act, by any party who submits a written request for a copy of such documents to the following office within 30 days of the date of publication of this notice: U.S. Fish and Wildlife Service, 1875 Century Boulevard, Suite 200, Atlanta, GA 30345 (Attn: David Dell, Permit Coordinator).

FOR FURTHER INFORMATION CONTACT: David Dell, Permit Coordinator, telephone 404-679-7313; facsimile 404-678-7081.

SUPPLEMENTARY INFORMATION: The public is invited to comment on the following applications for permits to conduct certain activities with endangered and threatened species pursuant to section 10(a)(1)(A) of the Endangered Species Act of 1973, as amended (16 U.S.C. 1531 et seq.), and our regulations in the Code of Federal Regulations (CFR) at 50 CFR 17. This notice is provided under section 10(c) of the Act.

If you wish to comment, you may submit comments by any one of the following methods. You may mail comments to the Fish and Wildlife Service's Regional Office (see ADDRESSES section) or via electronic mail (email) to: permitsR4ES@fws.gov. Please include your name and return address in your email message. If you do not receive a confirmation from the Fish and Wildlife Service that we have received your email message, contact us directly at the telephone number listed above (see FOR FURTHER INFORMATION CONTACT). Finally, you may hand-deliver comments to the Fish and Wildlife Service office listed above (see ADDRESSES).

Before including your address, telephone number, email address, or other personal identifying information in your comments, you should be aware that your entire comment—including your personal identifying information—may be made publicly available at any time. While you can ask us in your comments to withhold your personal identifying information from public review, we cannot guarantee that we will be able to do so.

Permit Application Number: TE00657B

Applicant: Douglas Shelton, Mobile, Alabama.

Applicant requests authorization to take (survey, capture, handle, and transport) 68 species of freshwater mussels, 12 species of freshwater snails, and 3 species of terrestrial snails throughout Arkansas, Louisiana, Mississippi, Kentucky, Tennessee, Alabama, Georgia, Florida, North Carolina and South Carolina for the purpose of conducting presence/absence/population surveys and assisting in species recovery efforts.

Permit Application Number: TE148282

Applicant: Jack Wilhide, Richmond, Kentucky.

Applicant requests authorization to take (capture, mark, apply transmitters, track, survey, and collect tissues) Indiana bat (Myotis sodalis), gray bat (M. grisescens), Virginia big-eared bat (Corynorhinus townsendii virginianus) and Ozark big-eared bat (C. t. ingens) in Arkansas, Kentucky, Tennessee, North Carolina, West Virginia, Virginia, Indiana, Ohio, Illinois, New York, Maryland, Pennsylvania, and Michigan while conducting presence/absence surveys, studies to document habitat use, and population monitoring.

Permit Application Number: TE01335B

Applicant: Emma Willcox, Knoxville, Tennessee.

Applicant requests authorization to take (capture, handle, collect tissues, release, and monitor) Indiana bat (M. sodalis) and gray bat (M. grisescens) in Tennessee.

Permit Application Number: TE97394A

Applicant: Zachary Couch, Pleasureville, Kentucky.

Applicant requests authorization to take (capture, mark, apply transmitters, track, survey, and collect tissues) Indiana bat (M. sodalis), gray bat (M. grisescens), and Virginia big-eared bat (C. t. virginianus), for the purpose of conducting presence/absence surveys and assisting in species recovery efforts. These activities may be conducted throughout Kentucky, Georgia, Indiana, West Virginia, Ohio, Tennessee, Illinois, Missouri, and Virginia.

Permit Application Number: TE02206B

Applicant: Kefyn Catley, Sylva, North Carolina.

Applicant requests authorization to take (harass) spruce-fir moss spider (Microhexura montivaga) during habitat studies in North Carolina and Virginia.

Permit Application Number: TE02200B

Applicant: Atlanta Botanical Garden, Atlanta, Georgia.

Applicant requests authorization to collect seeds of swamp pink (Helonias bullata), relict trillium (Trillium reliquum), and Tennessee yellow-eyed grass (Xyris tennesseensis) from Federal lands for long-term conservation storage and potential propagation if needed for restoration and recovery activities.

Permit Application Number: TE00657B

Applicant: Jeff Selby, Decatur, Alabama.

Applicant requests authorization to take (survey, capture, handle, tag, release) 56 freshwater mussel species, 5 snail species, 7 fish species, and 1 species of turtle for the purpose of conducting presence/absence/population surveys and assisting in species recovery efforts.

Permit Application Number: TE13844A

Applicant: Aquatic Resources, Lexington, Kentucky.

Applicant requests authorization to survey for Indiana bat (M. sodalis) throughout the species range for the purpose of conducting presence/absence/population surveys and assisting in species recovery efforts.

Permit Application Number: TE134265

Applicant: SeaWorld Orlando, Orlando, Florida.

Applicant requests authorization to receive and retain, for greater than 45 days, Kemp's Ridley (Lepidochelys kempii), hawksbill (Eretmochelys imbricata), leatherback (Dermochelys coriacea), green (Chelonia mydas), loggerhead (Caretta caretta), and olive ridley (Lepidochelys olivacea) sea turtles for veterinary treatment, release, educational display, or euthanasia under certain conditions.

Permit Application Number: TE810274

Applicant: Eco Tech, Louisville, Kentucky.

Applicant requests authorization to take (capture, handle, release) freshwater mussels (Appalachian elktoe (Alasmidonta raveneliana), spectaclecase (Cumberlandia monodonta), snuffbox (Epioblasma triquetra), sheepnose (Plethobasus cyphyus), rayed bean (Villosa fabalis)) and fish (Cumberland darter (Etheostoma susannae)), for the purpose of conducting presence/absence surveys and assisting in species recovery efforts. Activities may occur throughout the species' ranges in Alabama, Arkansas, Kentucky, Mississippi, North Carolina, Tennessee, New York, Pennsylvania, Virginia, West Virginia, Illinois, Indiana, Iowa, Kansas, Michigan, Missouri, Ohio, Minnesota, and Wisconsin.

Dated: April 16, 2013.
Mike Oetker,
Acting Regional Director.

[FR Doc. 2013-09714 Filed 4-24-13; 8:45 am]

BILLING CODE 4310-55-P